DEPARTMENT OF TRANSPORTATION

Federal Aviation Administration

14 CFR Part 71

[Docket No. FAA-2013-0952; Airspace Docket No. 13-AGL-18]

RIN 2120-AA66

Modification of Area Navigation (RNAV) Route T-265, IL

AGENCY: Federal Aviation Administration (FAA), DOT.

ACTION: Final rule.

SUMMARY: This action modifies RNAV route T-265 in support of the O'Hare Modernization Project (OMP)/Chicago Airspace Project (CAP). This action re-aligns T-265 slightly to the west providing appropriate lateral spacing from a new Rockford Airport Traffic Control Tower (RFD) and Chicago Terminal Radar Approach Control (C90) airspace boundary and to maintain the efficiency and safety of aircraft transitioning around the Chicago Class B airspace area.

DATES: Effective date 0901 UTC, July 24, 2014. The Director of the Federal Register approves this incorporation by reference action under 1 CFR part 51, subject to the annual revision of FAA Order 7400.9 and publication of conforming amendments.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

History

The FAA published in the Federal Register a notice of proposed rulemaking (NPRM) to amend T-265 (78 FR 78303, December 26, 2013). Interested parties were invited to participate in this rulemaking effort by submitting written comments on the proposal. One comment was received. The Aircraft Owners and Pilots Association supported the modification, but encouraged the FAA to utilize stakeholders in developing a national air traffic service route modernization plan.

The Rule

The FAA is amending Title 14, Code of Federal Regulations (14 CFR) part 71 to modify T-265 in support of the OMP/CAP. As part of the OMP/CAP, the RFD/C90 airspace boundary is being moved to the west. This action re-aligns T-265 slightly to the west by replacing the first two waypoints in the route with two airway intersection fixes, AHMED and START, respectively, and re-designating the BULLZ and VEENA waypoints as airway intersection fixes. The route modification ensures appropriate lateral spacing from the new RFD/C90 airspace boundary and eliminates the need for manual air traffic control coordination or aircraft to accomplish frequency changes between the two facilities. This modification also shortens T-265 by almost 2 nautical miles while providing the same level of convenience to the flying public with an easy way to file and fly around the Chicago Class B airspace area between Chicago/Rockford International Airport, IL, and Chicago O'Hare International Airport, IL.

Low altitude RNAV routes are published in paragraph 6011 of FAA Order 7400.9X, dated August 7, 2013, and effective September 15, 2013, which is incorporated by reference in 14 CFR 71.1. The RNAV route listed in this document will be subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as required to preserve the safe and efficient flow of air traffic within the National Airspace System.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, dated August 7, 2013, and effective September 15, 2013, is amended as follows:

Paragraph 6011 United States area navigation routes.

* * * * *

T-265 AHMED, IL to VEENA, WI [Amended]

AHMED, IL Fix

(Lat. 41°29′52″ N., long. 88°51′52″ W.)

START, IL Fix

(Lat. 41°45′25″ N., long. 89°00′22″ W.)

BULLZ, IL Fix

(Lat. 42°27′27″ N., long. 88°46′17″ W.)

VEENA, WI Fix

(Lat. 42°42′18″ N., long. 88°18′14″ W.)

* * * * *

Issued in Washington, DC, on April 1, 2014.
Gary A. Norek,
Manager, Airspace Policy and Regulations Group.

[FR Doc. 2014-07725 Filed 4-7-14; 8:45 am]

BILLING CODE 4910-13-P